DEPARTMENT OF AGRICULTURE

Foreign Agricultural Service

[Docket ID FAS-25-0034]

Notice of Request for Information for Refined Sugar

AGENCY: Foreign Agricultural Service, USDA.

ACTION: Notice of request for information.

SUMMARY: In accordance with the One Big Beautiful Bill Act, the U.S. Department of Agriculture (USDA) requests comments from the public on whether it would be necessary and appropriate to establish additional terms and conditions with respect to refined sugar imports, including comments on the potential impact of such modifications on the domestic sugar industry.

DATES: Comments on this notice must be received by January 14, 2025 to be assured of consideration.

ADDRESSES: USDA invites submission of the requested information through one of the following methods:

• Federal eRulemaking Portal: Go to http://www.regulations.gov and search for DOCKET ID FAS-25-0034. Follow the online instructions for submitting comments.

• Email: FAS will accept electronic submissions emailed to Sugars@usda.gov. The email should contain the subject line, “Response to RFI: Refined Sugar Study, Impacts on the Domestic Sugar Industry.”

• Mail, Courier, or Hand Delivery: Dylan Daniels, U.S. Department of Agriculture, Foreign Agricultural Service, 1400 Independence Avenue SW, Room 5933, Washington, DC 20250.

Instructions: Response to this RFI is voluntary. All comments submitted in response to this RFI will be included in the record and will be made available to the public. Please be advised that the substance of the comments and the identity of the individuals or entities submitting the comments will be subject to public disclosure. USDA will make the comments publicly available via http://www.regulations.gov.

FOR FURTHER INFORMATION CONTACT: Dylan Daniels, Licensing Authority, U.S. Department of Agriculture, Foreign Agricultural Service, email Sugars@usda.gov.

Persons with disabilities who require an alternative means for communication of information (Braille, large print, audiotape, etc.) should contact RARequest@usda.gov.

SUPPLEMENTARY INFORMATION:

Background

On July 4, 2025, President Trump signed into law the One Big Beautiful Bill Act, Public Law 119-21. Section 10312 of Public Law 119-21 amended section 359k of the Agricultural Adjustment Act of 1938 (7 U.S.C. 1359kk), adding a new subsection requiring the Secretary of Agriculture to conduct a study on whether the establishment of additional terms and conditions on refined sugar imports is necessary and appropriate. 7 U.S.C. 1359kk(d)(2)(A). The new subsection directs the Secretary to examine both the need for modifications to requirements for refined sugar imports and the potential impact of such modifications on the “domestic sugar industry,” defined as domestic sugar beet producers and processors, producers and processors of sugar cane, and refiners of raw cane sugar.

Request for Information

This RFI is a general solicitation for public input. This public input, including comments from stakeholders involved directly or indirectly in the importation of refined sugar, will inform USDA's examination of whether additional terms and conditions on refined sugar importation are necessary and appropriate.

Specifically, USDA requests comments on the following elements:

A. The need for the following:

1. Defining “refined sugar” as having a minimum polarization of 99.8 degrees or higher;

2. Establishing a standard for color- or reflectance-based units for refined sugar such as those utilized by the International Commission of Uniform Methods of Sugar Analysis;

3. Prescribing specifications for the packaging type for refined sugar;

4. Prescribing specifications for transportation modes for refined sugar;

5. Requiring affidavits or other evidence that sugar imported as refined sugar will not undergo further refining in the United States;

6. Prescribing appropriate terms and conditions to avoid unlawful sugar imports; and

7. Establishing other definitions, terms and conditions, or other requirements; and

B. The potential impacts of these modifications on the domestic sugar industry.

Respondents may provide non-confidential input concerning any or all of these elements. Any information obtained from this RFI is intended to be used by the Government on a non-attribution basis for determining whether the establishment of additional terms and conditions for the importation of refined sugar is necessary and appropriate. This RFI does not constitute a formal solicitation for proposals or abstracts. Your response to this notice will be treated as information only. FAS will not reimburse any costs incurred in responding to this RFI. Respondents are advised that FAS is under no obligation to acknowledge receipt of the information received or provide feedback to respondents with respect to any information submitted under this RFI. Responses to this RFI do not bind FAS to any further actions related to this topic. Responses will become government property.

No confidential information, such as confidential business information or proprietary information, should be submitted in comments for this RFI. Comments received in response to this notice will be a matter of public record and will be made available for public inspection and posted without change and as received, including any business information or personal information provided in the comments, such as names and addresses. Please do not include anything in your comment submission that you do not wish to share with the general public.

Daniel B. Whitley,
Administrator, Foreign Agricultural Service.

[FR Doc. 2025-22717 Filed 12-12-25; 8:45 am]

BILLING CODE 3410-10-P